The President

3 CFR

Proclamation 7382 of November 30, 2000

Correction

In Presidential document 00-31011 beginning on page 75851 in the issue of Monday, December 4, 2000, make the following correction:

On page 75852, the FR document line is corrected to read “[FR Doc. 00-31011 Filed 12-1-00 11:09 am]”.

[FR Doc. C0-31011 Filed 12-5-00; 8:45 am]

BILLING CODE 1505-01-D